SMALL BUSINESS ADMINISTRATION

[Declaration of Disaster #3574]

Federated States of Micronesia (Amendment #1)

In accordance with a correction notice received from the Department of Homeland Security—Federal Emergency Management Agency, effective May 4, 2004, the above numbered declaration is hereby amended to clarify that the designation of Individual Assistance does not include the entire Yap State but only the island of Yap proper within Yap State. All other information remains the same, i.e., the deadline for filing applications for physical damage is June 28, 2004, and for economic injury the deadline is January 27, 2005.

(Catalog of Federal Domestic Assistance Program Nos. 59002 and 59008).
Dated: June 8, 2004.
Herbert L. Mitchell,
Associate Administrator for Disaster Assistance.

[FR Doc. 04-13427 Filed 6-14-04; 8:45 am]

BILLING CODE 8025-01-U